DEPARTMENT OF ENERGY

[FE Docket No. PP-85-3]

Application To Transfer Presidential Permit; Boliden Westmin (Canada) Limited and Boliden Power Limited

AGENCY: Office of Fossil Energy, DOE.

ACTION: Notice of application.

SUMMARY: Boliden Westmin (Canada) Limited (BWCL) and Boliden Power Limited (BPL) have jointly applied to transfer Presidential Permit PP-85-2 from BWCL to BPL.

DATES: Comments, protests, or requests to intervene must be submitted on or before December 13, 2004.

ADDRESSES: Comments, protests, or requests to intervene should be addressed as follows: Office of Fossil Energy, FE-27, Forrestal Building, U.S. Department of Energy, 1000 Independence Avenue, SW., Washington, DC 20585.

FOR FURTHER INFORMATION CONTACT: Ellen Russell (Program Office) 202-586-9624 or Michael T. Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038. Existing Presidential permits are not transferable or assignable. However, in the event of a proposed voluntary transfer of facilities, in accordance with the regulations at 10 CFR 205.323, the existing permit holder and the transferee are required to file a joint application with DOE that includes a statement of reasons for the transfer.

On October 20, 2004, BWCL and BPL, both wholly-owned subsidiaries of Boliden AB, a Swedish Corporation, jointly filed an application with the Office of Fossil Energy (FE) of the Department of Energy (DOE) to transfer from BWCL to BPL the international transmission facilities authorized by Presidential Permit PP-85-2. The permitted facilities “loop” into and out of Canada, through the State of Alaska, and do not interconnect with the electricity delivery system of Alaska. No physical change to authorized facilities is expected. The facilities proposed to be transferred are described as:

One 35,000-volt (35-kV) alternating current transmission line which crosses the U.S. international border from British Columbia, Canada, passes through the State of Alaska, and re-enters British Columbia at a second point on the U.S. international border.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: W. S. Garton and Christopher Horte, Bull, Housser & Tupper, 3000-1055 West Georgia Street, Vancouver, BC, V6E 3R3, Canada.

Before a Presidential permit may be issued or amended, the DOE must determine that the proposed action will not adversely impact on the reliability of the U.S. electric power supply system. In addition, DOE must consider the environmental impacts of the proposed action (i.e., granting the Presidential permit, with any conditions and limitations, or denying the permit) pursuant to the National Environmental Policy Act of 1969. DOE also must obtain the concurrence of the Secretary of State and the Secretary of Defense before taking final action on a Presidential permit application.

Copies of this application will be made available, upon request, for public inspection and copying at the address provided above. In addition, the application may be reviewed or downloaded from the Fossil Energy home page at: http://www.fe.doe.gov. Upon reaching the Fossil Energy home page, select “Electricity Regulation” from the options menu, and then “Pending Proceedings.”

Issued in Washington, DC, on November 8, 2004.
Anthony J. Como,
Deputy Director, Electric Power Regulation, Office of Fossil Energy.

[FR Doc. 04-25200 Filed 11-10-04; 8:45 am]

BILLING CODE 6450-01-P